SMALL BUSINESS ADMINISTRATION

[Disaster Declaration #14621 and #14622]

Arkansas Disaster #AR-00086

AGENCY: U.S. Small Business Administration.

ACTION: Notice

SUMMARY: This is a Notice of the Presidential declaration of a major disaster for the State of Arkansas (FEMA-4254-DR), dated 02/05/2016.

Incident: Severe Storms, Tornadoes, Straight-line Winds, and Flooding.

Incident Period: 12/26/2015 through 01/22/2016.

Effective Date: 02/05/2016.

Physical Loan Application Deadline Date: 04/05/2016.

Economic Injury (EIDL) Loan Application Deadline Date: 11/07/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 02/05/2016, applications for disaster loans may be filed at the address listed above or other locally announced locations.

The following areas have been determined to be adversely affected by the disaster:

Primary Counties (Physical Damage and Economic Injury Loans):

Benton, Carroll, Crawford, Faulkner, Jackson, Jefferson, Lee, Little River, Perry, Sebastian, Sevier.

Contiguous Counties (Economic Injury Loans Only):

Arkansas:

Arkansas, Boone, Cleburne, Cleveland, Conway, Craighead, Crittenden, Cross, Franklin, Garland, Grant, Hempstead, Howard, Independence, Lawrence, Lincoln, Logan, Lonoke, Madison, Miller, Monroe, Newton, Phillips, Poinsett, Polk, Pulaski, Saint Francis, Saline, Scott, Van Buren, Washington, White, Woodruff, Yell.

Missouri:

Barry, McDonald, Stone, Taney.

Mississippi:

Tunica.

Oklahoma:

Adair, Delaware, Le Flore, McCurtain, Sequoyah.

Texas:

Bowie.

The Interest Rates are:

For Physical Damage:
Homeowners With Credit Available Elsewhere | 3.625
Homeowners Without Credit Available Elsewhere | 1.813
Businesses With Credit Available Elsewhere | 6.000
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 14621B and for economic injury is 146220.

(Catalog of Federal Domestic Assistance Numbers 59008)

Lisa Lopez-Suarez,
Acting Associate Administrator for Disaster Assistance.

[FR Doc. 2016-02931 Filed 2-11-16; 8:45 am]

BILLING CODE 8025-01-P